DEPARTMENT OF TRANSPORTATION

Federal Aviation Administration

14 CFR Part 39

[Docket No. 2001-NM-190-AD; Amendment 39-12295; AD 2001-13-14]

RIN 2120-AA64

Airworthiness Directives; Empresa Brasileira de Aeronautica S.A. (EMBRAER) Model EMB-120 Series Airplanes

AGENCY: Federal Aviation Administration, DOT.

ACTION: Final rule; request for comments.

SUMMARY: This amendment adopts a new airworthiness directive (AD) that is applicable to all EMBRAER Model EMB-120 series airplanes. This action requires revising the Airplane Flight Manual, installing a placard on the main instrument panel, and removing the “LIGHT-HEAVY” inflation switch of the leading edge deicing boots. This amendment is prompted by issuance of mandatory continuing airworthiness information by a foreign civil airworthiness authority. This action is intended to ensure that the flight crew is provided with accurate indications of the severity of ice accretion and appropriate procedures and actions to prevent reduced controllability of the aircraft due to accretion of ice on the airplane.

DATES: Effective July 12, 2001.

The incorporation by reference of certain publications listed in the regulations is approved by the Director of the Federal Register as of July 12, 2001.

Comments for inclusion in the Rules Docket must be received on or before July 27, 2001.

ADDRESSES: Submit comments in triplicate to the Federal Aviation Administration (FAA), Transport Airplane Directorate, ANM-114, Attention: Rules Docket No. 2001-NM-190-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-190-AD” in the subject line and need not be submitted in triplicate. Comments sent via the Internet as attached electronic files must be formatted in Microsoft Word 97 for Windows or ASCII text.

The service information referenced in this AD may be obtained from Empresa Brasileira de Aeronautica S.A. (EMBRAER), P.O. Box 343—CEP 12.225, Sao Jose dos Campos—SP, Brazil. This information may be examined at the FAA, Transport Airplane Directorate, 1601 Lind Avenue, SW., Renton, Washington; or at the Office of the Federal Register, 800 North Capitol Street, NW., suite 700, Washington, DC.

FOR FURTHER INFORMATION CONTACT: Paul Pellicano, Aerospace Engineer, Systems and Flight Test Branch, ACE-116A, FAA, Atlanta Aircraft Certification Office, One Crown Center, 1895 Phoenix Boulevard, suite 450, Atlanta, Georgia 30349; telephone (770) 703-6064; fax (770) 703-6097.

SUPPLEMENTARY INFORMATION: The Departmento de Aviacao Civil (DAC), which is the airworthiness authority for Brazil, recently notified the FAA that an unsafe condition may exist on all EMBRAER Model EMB-120 series airplanes. The DAC advises that it has received reports of loss of control events occurring on EMBRAER Model EMB-120 series airplanes that were flying during icing conditions. The DAC advises that such events indicate that the flight crews may not have correctly determined both the severity of the ice accretion and the need to take immediate action to prevent excessive loss of airspeed, especially when using the autopilot. This condition, if not corrected, could result in reduced controllability of the airplane due to accretion of ice on the airplane.

Explanation of Relevant Service Information

EMBRAER has issued Service Bulletin 120-25-0258, dated May 14, 2001, which describes procedures for installation of a placard in the cockpit panel that instructs the flight crew to activate the deicing boots and disengage the autopilot whenever ice is detected by visual cues or ice detector illumination.

EMBRAER also has issued Service Bulletin 120-30-0032, Change No. 01, dated June 13, 2001, which describes procedures to remove the inflation cycle switch labeled “LIGHT-HEAVY” of the leading edge boots, and contains instructions for functional and monitoring tests for the leading edge deicers.

The DAC has issued Brazilian airworthiness directive 2001-05-02, dated June 6, 2001, requiring accomplishment of the two service bulletins described previously. The Brazilian airworthiness directive also requires revision of the Airplane Flight Manual (AFM) that provides the following instructions to the flight crew during flight in icing conditions:

1. Do not use the autopilot;

2. Only use the leading edge boots inflation cycle switches in the position labeled “heavy;” and

3. Do not allow the airspeed to fall below 160 knots indicated airspeed (KIAS) (with flaps and gear up) or below 140 KIAS (with flaps 15 and gear up).

The DAC has issued airworthiness directive 2001-05-02 in order to assure the continued airworthiness of these airplanes in Brazil.

FAA's Conclusions

This airplane model is manufactured in Brazil and is type certificated for operation in the United States under the provisions of § 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Explanation of Requirements of Rule

Since an unsafe condition has been identified that is likely to exist or develop on other airplanes of the same type design registered in the United States, this AD is being issued to prevent reduced controllability of the airplane due to accretion of ice. This AD requires accomplishment of the actions specified in the service bulletins described previously, except as discussed below.

Interim Action

This is considered to be interim action until final action is identified, at which time the FAA may consider further rulemaking.

Differences Between This AD and the Brazilian AD

This AD differs from the Brazilian AD in the following areas:

1. The AFM limitations are more specific as to when to disconnect the autopilot.

2. This AD does not incorporate the minimum airspeeds in icing conditions in the Limitations section, since these airspeeds are already contained in the Normal Procedures section of the FAA-approved AFM under the “Operation in Icing Conditions” section. Additionally, the Limitations section under “Operation in Icing Conditions” currently includes the statement that: “When operating in known or forecast icing conditions, the specific procedures for operation in icing conditions presented in the Normal Procedures Section of this manual must be followed.” Therefore, the limitations on minimum airspeeds in icing conditions specified in the Brazilian AD are already included in the FAA-approved AFM.

3. This AD includes instructions to remove the current information contained in the Normal Procedures section advising the pilot to select either Heavy or Light mode.

4. This AD also adds a “Warning” to the Normal Procedures section to exit icing conditions if the flight crew detects large or frequent changes in trim or excessive performance degradation.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-190-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-13-14 Empresa Brasileira de Aeronautica S.A. (EMBRAER): Amendment 39-12295. Docket 2001-NM-190-AD.

Applicability: All Model EMB-120, -120RT, -120ER, and -120FC series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To ensure that the flight crew is provided with accurate indications of the severity of ice accretion and appropriate procedures and actions to prevent reduced controllability of the aircraft due to accretion of ice on the airplane, accomplish the following:

Airplane Flight Manual

(a) Within 20 flight hours after the effective date of this AD: Revise the Limitations and Normal Procedures Sections of the FAA-approved Airplane Flight Manual (AFM) to include the following procedures, as specified in paragraphs (a)(1), (a)(2), (a)(3), and (a)(4) of this AD. This may be accomplished by inserting a copy of this AD in the AFM.

(1) In the Limitations section under the existing title “Operation in Icing Conditions,” insert the following:

“Autopilot use is prohibited when atmospheric icing conditions exist, at the first sign of icing accretion anywhere on the airplane, or after the illumination of the Ice Condition light, whichever occurs first.

Leading edge deicers switch must be operated in the Heavy mode only.”

(2) In the Normal Procedures section under the existing title, “Operation in Icing Conditions,” delete the following:

“Leading edge deicers switch.......ON Select ‘Heavy’ or ‘Light’ mode (1 or 3 minutes cycle), based on the flight crew's judgement and evaluation of the severity of the ice encounter and rate of accretion.”

(3) In the Normal Procedures section under the existing title, “Operation in Icing Conditions,” insert the following:

“Leading edge deicers switch.......On (TIMER 1 or TIMER 2) Select ‘Heavy’ mode if Light/Heavy switch is still installed.”

(4) In the Normal Procedures section insert the following warning:

“WARNING: If large or frequent changes in longitudinal trim, and/or excessive performance degradation occur (identified by large increases in power required to maintain airspeed and altitude), immediately request priority handling from air traffic control to exit icing conditions.”

Placard Installation

(b) Within 400 flight hours after the effective date of this AD, install a placard to activate the deicing boots and disengage the autopilot, whenever ice is detected by visual cues or ice detector illumination, to the left of the pilot's airspeed indicator and one placard to the right of the co-pilot's altimeter, per EMBRAER Service Bulletin 120-25-0258, dated May 14, 2001.

(c) Within 400 flight hours after the effective date of this AD, remove the “Light-Heavy” inflation switch of the leading edge deicing boots, per EMBRAER Service Bulletin 120-30-0032, Change No. 01, dated June 13, 2001.

Alternative Methods of Compliance

(d) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 2: Information concerning the existence of approved alternative methods of compliance with this AD, if any, may be obtained from the Atlanta ACO.

Special Flight Permits

(e) Special flight permits may be issued in accordance with §§ 21.197 and 21.199 of the Federal Aviation Regulations (14 CFR 21.197 and 21.199) to operate the airplane to a location where the requirements of this AD can be accomplished.

Incorporation by Reference

(f) Except for the actions specified in paragraph (a) of this AD, the actions shall be done in accordance with EMBRAER Service Bulletin 120-25-0258, dated May 14, 2001; and EMBRAER Service Bulletin 120-30-0032, Change No. 01, dated June 13, 2001. This incorporation by reference was approved by the Director of the Federal Register in accordance with 5 U.S.C. 552(a) and 1 CFR part 51. Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

Note 3: The subject of this AD is addressed in Brazilian airworthiness directive 2001-05-02, dated June 6, 2001.

Effective Date

(g) This amendment becomes effective on July 12, 2001.

Issued in Renton, Washington, on June 20, 2001.
Kalene C. Yanamura,
Acting Manager, Transport Airplane Directorate, Aircraft Certification Service.

[FR Doc. 01-16047 Filed 6-22-01; 10:10 am]

BILLING CODE 4910-13-U